DEPARTMENT OF DEFENSE

Department of the Army, Corps of Engineers

Intent To Prepare a Draft Environmental Impact Statement for Potential Multipurpose Projects for Ecosystem Restoration, Flood Damage Reduction, and Recreation Development Within and Along the Clear and West Forks of the Trinity River in Fort Worth, Tarrant County, TX

AGENCY: Department of the Army, U.S. Army Corps of Engineers, DoD.

ACTION: Notice of intent.

SUMMARY: A resolution by the United States Senate Committee on Environment and Public Works dated April 22, 1988, requested that the Board of Engineers review the report of the Chief of Engineers on the Trinity River and Tributaries, TX, House Document No. 276, Eighty-Ninth Congress, and other pertinent reports, with a view to determining the advisability of modifying the recommendations contained therein, with particular reference to providing improvements in the interest of flood protection, environmental enhancement, water quality, recreation, and other allied purposes in the Upper Trinity River Basin with specific attention on the Dallas-Fort Worth Metroplex. An initial assessment based on the resolution guidance indicates a Federal interest in continuing with more detailed studies for these purposes. In accordance with the National Environmental Policy Act, a Draft Environment Impact Statement (DEIS) will be prepared to evaluate and compare ecosystem restoration, flood damage reduction, and recreation alternatives within and along the Clear Fork and West Fork of the Trinity River in the Central City area of Forth Worth, TX. The DEIS will also assess the impacts to the quality of the human environment associated with each alternative. The study area will be bound by Interstate Highway 30 on the Clear Fork, Rockwood Park on the upstream end of the West Fork, Northeast 28th Street on Marine Creek, a tributary of the West Fork, and Riverside Drive on the downstream end of the West Fork. The construction and implemention of Benbrook Lake, Eagle Mountain Lake, Lake Worth, the Fort Worth Floodway project, and subsequent flood control projects, along with urbanization and development activities, have significantly degraded the terrestrial and aquatic habitat along and within the Trinity River. Consequently, ecosystem restoration measures will be developed and evaluated to address the degraded habitats. In addition, recreation measures will be developed and evaluated as complements to proposed ecosystem restoration measures. Although preliminary findings indicate that flood damage reduction opportunities would be limited, the floodway and the interior drainage in the study area will be evaluated for flood damage reduction opportunities and consistency with past improvements. Flood damage reduction measures will address the loss of the authorized level of flood protection for the area.

DATES: A public meeting will be held on October 29, 2002 from 6:30 p.m. to 8:30 p.m. at the YWCA (Grand Ballroom), 512 West 4th Street, Fort Worth, TX 76102

FOR FURTHER INFORMATION CONTACT: Questions pertaining to the proposed action and DEIS can be answered by: Ms. Marcia R. Hackett, CESWF-PM-C, U.S. Army Corps of Engineers, Fort Worth District, P.O. Box 17300, Fort Forth, TX 76102-0300, (817) 886-1787.

SUPPLEMENTARY INFORMATION: The Fort Worth Floodway was authorized by Section 2 of Public Law No. 14, 79th Congress, 2nd Session, approved March 2, 1945. The project, which was completed in September 1957, entailed the construction and/or strengthening of levees and the widening and straightening of the Clear Fork channel from Lancaster Street to its confluence with the West Fork and the West Fork channel from White Settlement Road to Riverside Drive, along with allied features such as removal of debris from the floodway, reconstruction and alteration of roads, bridges and public utilities, modifying channel diversions, and constructing drainage facilities. The Flood Control Act of 1960 provided for an extension upstream of the floodway project on the West Fork from White Settlement Road to just downstream of Meandering Road. Construction on the West Fork extension was initiated in March 1965 and completed in June 1971. Similar flood control features were authorized by the Flood Control Act dated October 23, 1962, for an extension of the Clear Fork of the Trinity River between the existing Fort Worth Floodway and State Highway 183. Construction of the Clear Fork Extension was initiated in January 1966 and completed in September 1971.

Alternatives for ecosystem restorations, flood damage reduction, and recreation will be developed and evaluated based on ongoing fieldwork and data collection and past studies conducted by the Corps of Engineers, the Tarrant Regional Water District, and the City of Fort Worth. Ecosystem restoration alternatives that will be evaluated include creating meanders within the Trinity River, restoring, protecting and expanding the riparian corridor, improving aquatic habitat, creating riffle-pool complexes, and constructing wetlands. it is anticipated that ecosystem restoration measures would aid in improving water quality, optimizing aquatic and terrestrial habitat, and minimizing erosion and scouring along and within the river. Alternatives for flood damage reduction measures will be evaluated from both a non-structural and structural aspect. Non-structural measures that will be evaluated include acquisition and removal of structures or flood proofing of structures for protection from potential future flood damage. Structural measures that will be evaluated include diversion channels and/or channel modifications of various widths and depths and/or a combination of these measures. Recreation measures that will be evaluated for the enjoyment of residents and visitors alike include multipurpose trails and passive recreation features, such as interpretive guidance and media and picnic areas. Recreation measures will be developed to a scope and scale compatible with proposed ecosystem restoration measures without significantly diminishing ecosystem benefits.

A Programmatic Environmental Impact Statement (PEIS) for the Upper Trinity River Basin Feasibility study addressing the potential cumulative effects of reasonable foreseeable projects, including the Clear Fork West Fork studies was completed in June 2000. The DEIS will be tiered to the PEIS.

The public will be invited to participate in the scoping process, invited to attend public meetings, and given the opportunity to review the DEIS. The first public meeting will be on October 29, 2002 at the Grand Ballroom of the Downtown YWCA (see DATES). Subsequent public meetings, if deemed necessary, will be announced in the local news media. Release of the DEIS for public comment is scheduled for Summer 2004. The exact release date, once established, will be announced in the local news media.

Future coordination with other agencies and public scoping will be conducted to ensure full and open participation and aid in the development of the DEIS. All affected Federal, state, and local agencies, affected Indian tribes, and other interested private organizations and parties are hereby invited to participate. Future coordination will also be conducted with the United States Fish and Wildlife Service (USFWS). The USFWS will furnish information on threatened and endangered species in accordance with the Endangered Species Act. In addition, the USFWS will also be requested to provide support with planning aid and to provide a Fish and Wildlife Coordination Act Report. The State Historic Preservation Office will be consulted as required by Section 106 of the National Historic Preservation Act.

Robert P. Morris, Jr.,
Lieutenant Colonel, Corps of Engineers, Deputy District Engineer.

[FR Doc. 02-26335 Filed 10-15-02; 8:45 am]

BILLING CODE 3710-20-M